DEPARTMENT OF HEALTH AND HUMAN SERVICES

Centers for Disease Control and Prevention

Food and Drug Administration

National Institutes of Health

Draft Public Health Action Plan to Combat Antimicrobial Resistance

AGENCIES: Centers for Disease Control and Prevention (CDC), Food and Drug Administration (FDA), National Institutes of Health (NIH), Department of Health and Human Services (HHS).

ACTION: Notice of availability and request for public comment.

SUMMARY: This notice announces the availability of a document for public comment entitled “Draft Public Health Action Plan to Combat Antimicrobial Resistance.” This Action Plan provides a blueprint for comprehensive and coordinated efforts of Federal agencies in addressing the emergence of antimicrobial resistance.

DATES: Comments must be submitted in writing on or before August 4, 2000.

FOR FURTHER INFORMATION CONTACT: Requests for copies of the Draft Public Health Action Plan to Combat Antimicrobial Resistance should be made to the Office of Health Communication, National Center for Infectious Diseases, Centers for Disease Control and Prevention, Mailstop C-14, 1600 Clifton Road, Atlanta, GA 30333; fax: 404-639-5489; or e-mail: ncid@cdc.gov; or Internet URL: http://www.cdc.gov.drugresistance/actionplan/.

ADDRESSES: Comments on the Draft Public Health Action Plan to Combat Antimicrobial Resistance should be submitted to the Office of Health Communication, National Center for Infectious Diseases, Centers for Disease Control and Prevention, Mailstop C-14, 1600 Clifton Road, Atlanta, GA 30333; fax: 404-639-5489; e-mail: aractionplan@cdc.gov; or Internet URL: http://www.cdc.gov.drugresistance/actionplan/.

SUPPLEMENTARY INFORMATION: Antimicrobial resistance is an emerging public health threat that has been identified as an important priority by the Institute of Medicine and other expert bodies and is the subject of several proposed Healthy People 2010 goals relative to Infectious Diseases. In late 1998, CDC, FDA, and NIH recognized the need for better coordination and stimulation of the Federal response to this threat. In addition, in December of 1998, Senators William Frist and Edward Kennedy held a roundtable discussion on antimicrobial resistance, and a hearing was held in February 1999. Shortly thereafter, an Interagency Task Force on Antimicrobial Resistance was created to develop a Public Health Action Plan to Combat Antimicrobial Resistance. The Task Force is co-chaired by CDC, FDA, and NIH, and includes the Health Care Financing Administration, the Health Resources and Services Administration, Agency for Healthcare Research and Quality, the Department of Agriculture, the Department of Defense, the Department of Veterans Affairs, and the Environmental Protection Agency.

The Draft Public Health Action Plan to Combat Antimicrobial Resistance, Part I focuses on domestic issues. Since AR transcends national borders and requires a global approach to its prevention and control, Part II of the plan, to be developed subsequently, will identify actions that more specifically address international issues. The Plan includes a summary and a list of issues, goals, and 87 action items addressing four focus areas: Surveillance, Prevention and Control, Research, and Product Development. For each action item, “coordinator” and “collaborator” agencies/departments and timelines are specified. The Interagency Task Force will monitor, and if necessary, update the Plan, during the coming years.

Jeffrey P. Koplan,
Director, Centers for Disease Control and Prevention (CDC).
Ruth Kirschstein,
Acting Director, National Institutes of Health (NIH).
Jane E. Henney,
Commissioner, Food and Drug Administration (FDA).

[FR Doc. 00-15847 Filed 6-21-00; 8:45 am]

BILLING CODE 4160-18-P 4140-01-P 4150-04-P